DEPARTMENT OF AGRICULTURE

Forest Service

Information Collection; Land Exchanges

AGENCY: Forest Service, USDA.

ACTION: Notice; request for comments.

SUMMARY: In accordance with the Paperwork Reduction Act of 1995, the Forest Service is seeking comments from all interested individuals and organizations on the renewal, without change, of a previously approved information collection. This information collection will provide the Forest Service with the necessary information needed to complete an Agreement to Initiate and an Exchange Agreement. The Agreement to Initiate is a written, nonbinding statement, by both the non-Federal party and the Forest Service, of their present intent to initiate and pursue a land exchange. The legally binding Exchange Agreement documents the conditions that must be met to complete the land exchange. Forest Service personnel collect the information from non-Federal land exchange parties to complete the Agreement to Initiate and the Exchange Agreement.

DATES: Comments must be received in writing on or before August 11, 2003.

ADDRESSES: All comments should be addressed to Jack L. Craven, Director, Lands Staff, Mail Stop 1124, Forest Service, USDA, P.O. Box 96090, Washington, DC 20090-1124 or e-mail: landexchange@fs.fed.us.

FOR FURTHER INFORMATION CONTACT: Cynthia Swanson, Lands Specialist, at (202) 205-1248 or Kathleen L. Dolge, Realty Specialist, at (202) 205-1248.

SUPPLEMENTARY INFORMATION:

Background

Land exchanges are discretionary, voluntary, real estate transactions between the Secretary of Agriculture, acting by and through the Forest Service, and a non-Federal exchange party. Land exchanges can be initiated by any non-Federal party including a landowner, an agent of a landowner, a third party, or a non-Federal public agency.

Each land exchange requires preparation of an Agreement to Initiate in accordance with Title 36, Code of Federal Regulations (CFR), section 254.4. This document specifies the preliminary and non-binding intentions of the non-Federal land exchange party and of the Forest Service in pursuing a land exchange. The Agreement to Initiate can contain such information as the description of properties being considered in the land exchange, an implementation schedule of action items, identification of the party responsible for each action item, as well as target dates for completion of each action item.

As the exchange proposal develops, the Forest Service and the non-Federal land exchange party may enter into a binding Exchange Agreement pursuant to 36 CFR 254.14. The Exchange Agreement documents the conditions, which must be met to complete the exchange and can contain such information as identification of the parties, description of the lands and interests to be exchanged, identification of all reserved and outstanding interests, and all other terms and conditions necessary to complete an exchange.

The Forest Service collects the information from the non-Federal party in order to complete the Agreement to Initiate and the Exchange Agreement. Data from this information collection can be unique to each land exchange and is not available from other sources.

Description of Information Collection

1. Title: Agreement to Initiate.

OMB Number: 0596-0105.

Expiration Date of Approval: June 30, 2003.

Type of Request: Extension of a previously approved information collection.

Abstract: The Agreement to Initiate contains such information as the description of the properties being considered in the land exchange, an implementation schedule of action items, identification of the party responsible for each action item, as well as target dates for completion of each action item. The information is collected by Forest Service personnel by phone or meeting with the exchange party and is used to complete the Agreement to Initiate.

Estimate of Burden: 1 hour.

Type of Respondents: Non-Federal land exchange party.

Estimated Number of Respondents: 100.

Estimated Number of Responses per Respondent: 1.

Estimated Total Annual Burden on Respondents: 100 hours.

Data from this information collection is used to facilitate a mutually beneficial land exchange between the Forest Service and a non-Federal party and is not available from other sources.

Description of Information Collection

2. Title: Exchange Agreement.

OMB Number: 0596-0105.

Expiration Date of Approval: June 30, 2003.

Type of Request: Extension of a previously approved information collection.

Abstract: The Exchange Agreement contains such information as the identification of the parties, description of the lands and interests to be exchanged, identification of all reserved and outstanding interests. This information is collected by Forest Service personnel by phone or meeting with the exchange party and used to complete the Exchange Agreement.

Estimate of Burden: 1 hour.

Type of Respondents: non-Federal land exchange partners.

Estimated Number of Respondents: 100.

Estimated Number of Responses per Respondent: 1.

Estimated Total Annual Burden on Respondents: 100 hours.

Data from this information collection is used to facilitate a mutually beneficial land exchange between the Forest Service and a non-Federal party and is not available from other sources.

Comment Is Invited

The agency invites comments on the following: (a) The necessity of the proposed collection of information for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comment

All comments received in response to this notice, including name and address when provided, will become a matter of public record. Comments will be summarized and included in the request for Office of Management and Budget approval.

Dated: June 3, 2003.
Gloria Manning,
Associate Deputy Chief, National Forest System.

[FR Doc. 03-14627 Filed 6-10-03; 8:45 am]

BILLING CODE 3410-11-P